ENVIRONMENTAL PROTECTION AGENCY

[EPA-HQ-OPP-2015-0422; FRL-9933-23]

Pesticide Cumulative Risk Assessment; Framework for Screening Analysis; Notice of Availability and Request for Comment; Extension of Comment Period

AGENCY: Environmental Protection Agency (EPA).

ACTION: Notice; extension of comment period.

SUMMARY: EPA issued a notice in the Federal Register of July 29, 2015, announcing the availability of draft guidance for public comment entitled: “Pesticide Cumulative Risk Assessment: Framework for Screening Analysis.” This document extends the comment period for an additional 30 days, from August 28, 2015 to September 28, 2015. EPA is extending the comment period in response to requests for an extended comment period to allow for full participation.

DATES: Comments, identified by docket identification (ID) number EPA-HQ-OPP EPA-HQ-OPP-2015-0422, must be received on or before September 28, 2015.

ADDRESSES: Follow the detailed instructions provided under ADDRESSES in the Federal Register document of July 29, 2015 (80 FR 45218) (FRL-9930-32).

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION: This document extends the public comment period established in the Federal Register document of July 29, 2015 (80 FR 45218) (FRL-9930-32), in which EPA announced the availability of the following draft guidance for public comment: “Pesticide Cumulative Risk Assessment: Framework for Screening Analysis,” and solicited comments on a draft copy of the human health risk assessment where the cumulative assessment was conducted in conjunction with pending actions for abamectin. EPA is hereby extending the end of the comment period from August 28, 2015 to September 28, 2015.

To submit comments, or access the docket, please follow the detailed instructions provided under ADDRESSES in the Federal Register document of July 29, 2015. If you have questions, consult the person listed under FOR FURTHER INFORMATION CONTACT.

Authority: FFDCA section 408(b) [21 U.S.C. 346a(b)].

Dated: August 25, 2015.
Jack Housenger,
Director, Office of Pesticide Programs.

[FR Doc. 2015-21483 Filed 8-26-15; 4:15 pm]

BILLING CODE 6560-50-P